NUCLEAR REGULATORY COMMISSION

10 CFR Part 110

RIN 3150-AH88

Implementation of the Nuclear Export and Import Provisions of the Energy Policy Act of 2005; Correction

AGENCY: Nuclear Regulatory Commission.

ACTION: Final rule; Correction.

SUMMARY: This document corrects a final rule appearing in the Federal Register on April 20, 2006 (71 FR 20336), that implemented provisions of the Energy Policy Act of 2005. This action is necessary to correct typographical errors that appeared in the codified text of the final rule.

DATES: Effective Date: July 14, 2006.

FOR FURTHER INFORMATION CONTACT: Michael T. Lesar, Office of Administration, U.S. Nuclear Regulatory Commission, Washington, DC 20555. Telephone: 301-415-7163 or Toll-Free: 1-800-368-5642 or E-mail: MTL@NRC.Gov.

SUPPLEMENTARY INFORMATION: In 71 FR 20336, that appeared in the Federal Register on Thursday, April 20, 2006, the following corrections are made:

§ 110.42 [Corrected]

1. On page 20339, in the second column, in the second line of § 110.42(a)(9)(i), add the words “with respect to” between the words “section,” and “export” so the line reads “section, with respect to exports * * *.”

2. Also, on page 20339, in the second column, in the second line of § 110.42(a)(9)(i)(A), remove the word “tart” and add the word “target” in its place.

3. Lastly, on page 20339, in the third column, in the first and second lines of § 110.42(a)(9)(ii)(A) remove the words “has supplied” and add the words “that supplies” in their place.

Dated at Rockville, Maryland, this 10th day of July, 2006.
For the Nuclear Regulatory Commission.
Michael T. Lesar,
Federal Register Liaison Officer.

[FR Doc. E6-11116 Filed 7-13-06; 8:45 am]

BILLING CODE 7590-01-P